FEDERAL COMMUNICATIONS COMMISSION

47 CFR Part 73

[DA 00-2771; MM Docket No. 00-245; RM-9971]

Radio Broadcasting Services; Alberta, VA and Whitakers, NC

AGENCY: Federal Communications Commission.

ACTION: Proposed rule.

SUMMARY: This document requests comments on a petition for rule making filed by Broomfield Broadcasting, Inc. requesting the substitution of Channel 276C3 for Channel 276A at Alberta, Virginia and the reallotment of Channel 276C3 to Whitakers, North Carolina as the community's first local aural transmission service. The allotment Channel 299A to Alberta as a replacement for Channel 276C3 from Alberta. Channel 276C3 can be allotted to Whitakers in compliance with the Commission's minimum distance separation requirements without the imposition of a site restriction. Channel 299A can be allotted to Alberta in compliance with the Commission's minimum distance separation requirements without the imposition of a site restriction. The coordinates for Channel 276C3 at Whitakers are 36-11-23 North Latitude and 77-51-09 West Longitude. The coordinates for Channel 299A at Alberta are 36-51-56 North Latitude and 77-53-12 West Longitude.

DATES: Comments must be filed on or before January 29, 2001 and reply comments on or before February 13, 2001.

ADDRESSES: Federal Communications Commission, Washington, DC 20554. In addition to filing comments with the FCC, interested parties should serve the petitioner, his counsel, or consultant, as follows, John C. Trent, Esq., Putbrese, Hunsaker & Trent, P.C., 100 Carpenter Drive, Suite 100, P.O. Box 217, Sterling, VA 20167-0217 (Counsel for Broomfield Broadcasting, Inc., petitioner).

FOR FURTHER INFORMATION CONTACT: Arthur D. Scrutchins, Mass Media Bureau, (202) 418-2180.

SUPPLEMENTARY INFORMATION: This is a synopsis of the Commission's Notice of Proposed Rule Making, MM Docket No. 00-245; adopted November 29, 2000 and released December 8, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-32244 Filed 12-18-00; 8:45 am]

BILLING CODE 6717-01-M